DEPARTMENT OF TRANSPORTATION

Federal Aviation Administration

14 CFR Part 39

[Docket No. FAA-2005-21173; Directorate Identifier 2005-CE-22-AD]

RIN 2120-AA64

Airworthiness Directives; The Cessna Aircraft Company Models 401, 401A, 401B, 402, 402A, 402B, 402C, 404, 411, 411A, 414, 414A, 421, 421A, 421B, 421C, 425, and 441 Airplanes

AGENCY: Federal Aviation Administration (FAA), DOT.

ACTION: Notice of proposed rulemaking (NPRM).

SUMMARY: The FAA proposes to adopt a new airworthiness directive (AD) for certain The Cessna Aircraft Company (Cessna) Models 401, 401A, 401B, 402, 402A, 402B, 402C, 404, 411, 411A, 414, 414A, 421, 421A, 421B, 421C, 425, and 441 airplanes equipped with certain avionics bus circuit breaker switches. This proposed AD would require you to inspect the avionics bus circuit breaker switch to determine the date code and replace any without a date code. This proposed AD would also impose a 1,000-hour safe life limit on avionics bus circuit breaker switches with a date code earlier than 0434. This proposed AD results from reports of smoke and a burning smell in the cockpit. We are issuing this proposed AD to prevent failure of the avionics bus circuit breaker switch, which could result in smoke and a burning smell in the cockpit. This failure could lead to reduced ability to control the airplane.

DATES: We must receive any comments on this proposed AD by August 9, 2005.

ADDRESSES: Use one of the following to submit comments on this proposed AD:

• DOT Docket Web Site: Go to http://dms.dot.gov and follow the instructions for sending your comments electronically.

• Government-wide Rulemaking Web Site: Go to http://www.regulations.gov and follow the instructions for sending your comments electronically.

• Mail: Docket Management Facility; U.S. Department of Transportation, 400 Seventh Street, SW., Nassif Building, Room PL-401, Washington, DC 20590-001.

• Fax: 1-202-493-2251.

• Hand Delivery: Room PL-401 on the plaza level of the Nassif Building, 400 Seventh Street, SW., Washington, DC, between 9 a.m. and 5 p.m., Monday through Friday, except Federal holidays.

To get the service information identified in this proposed AD, contact The Cessna Aircraft Company, Product Support P.O. Box 7706, Wichita, Kansas 67277; telephone: (316) 517-5800; facsimile: (316) 942-9006.

To view the comments to this proposed AD, go to http://dms.dot.gov. The docket number is FAA-2005-21173; Directorate Identifier 2005-CE-22-AD.

FOR FURTHER INFORMATION CONTACT: Gerald Pilj, Aerospace Engineer, FAA, Wichita ACO, 1801 Airport Road, Mid-Continent Airport, Wichita, Kansas 67209; telephone: (316) 946-4151; facsimile: (316) 946-4107.

SUPPLEMENTARY INFORMATION:

Comments Invited

How do I comment on this proposed AD? We invite you to submit any written relevant data, views, or arguments regarding this proposal. Send your comments to an address listed under ADDRESSES. Include the docket number, “FAA-2005-21173; Directorate Identifier 2005-CE-22-AD” at the beginning of your comments. We will post all comments we receive, without change, to http://dms.dot.gov, including any personal information you provide. We will also post a report summarizing each substantive verbal contact with FAA personnel concerning this proposed rulemaking. Using the search function of our docket Web site, anyone can find and read the comments received into any of our dockets, including the name of the individual who sent the comment (or signed the comment on behalf of an association, business, labor union, etc.). This is docket number FAA-2005-21173; Directorate Identifier 2005-CE-22-AD. You may review the DOT's complete Privacy Act Statement in the Federal Register published on April 11, 2000 (65 FR 19477-78) or you may visit http://dms.dot.gov.

Are there any specific portions of this proposed AD I should pay attention to? We specifically invite comments on the overall regulatory, economic, environmental, and energy aspects of this proposed AD. If you contact us through a nonwritten communication and that contact relates to a substantive part of this proposed AD, we will summarize the contact and place the summary in the docket. We will consider all comments received by the closing date and may amend this proposed AD in light of those comments and contacts.

Docket Information

Where can I go to view the docket information? You may view the AD docket that contains the proposal, any comments received, and any final disposition in person at the DMS Docket Offices between 9 a.m. and 5 p.m. (eastern standard time), Monday through Friday, except Federal holidays. The Docket Office (telephone 1-800-647-5227) is located on the plaza level of the Department of Transportation NASSIF Building at the street address stated in ADDRESSES. You may also view the AD docket on the Internet at http://dms.dot.gov. The comments will be available in the AD docket shortly after the DMS receives them.

Discussion

What events have caused this proposed AD? We have received failure reports of certain Tyco Electronics circuit breaker switches installed on the master avionics bus of Cessna Models 401, 401A, 401B, 402, 402A, 402B, 402C, 404, 411, 411A, 414, 414A, 421, 421A, 421B, 421C, 425, and 441 airplanes. Failure of these circuit breaker switches cause smoke and a burning smell in the cockpit.

Analysis of the circuit breaker switch revealed the copper braid inside the switch had frayed. Continued use causes an internal short. The internal short could result in the internal switch components or external wiring melting because it is no longer protected by the circuit breaker.

The affected circuit breaker switches have a date code earlier than 0434 or do not have a date code on them.

The date code consists of four digits. The first two represent the year and the last two represent the week of the year the part was made.

What is the potential impact if FAA took no action? If not prevented, failure of the avionics bus circuit breaker switch could cause smoke and a burning smell in the cockpit. This failure could lead to reduced ability to control the airplane.

Is there service information that applies to this subject? Cessna has issued the following service bulletins:

—Multi-engine Service Bulletin MEB05-1, dated February 21, 2005, which applies to Models 401, 401A, 401B, 402, 402A, 402B, 402C, 404, 411, 411A, 414, 414A, 421, 421A, 421B, and 421C airplanes; and

—Conquest Service Bulletin CQB05-2, dated February 21, 2005, which applies to Models 425 and 441 airplanes.

What are the provisions of this service information? These service bulletins include procedures for:

—Inspecting the avionics bus circuit breaker switch to determine the date code;

—Replacing all avionics bus circuit breaker switches without date code; and

—Imposing a 1,000-hour safe life limit for all avionics bus circuit breaker switches with a date code earlier than 0434.

FAA's Determination and Requirements of This Proposed AD

What has FAA decided? We have evaluated all pertinent information and identified an unsafe condition that is likely to exist or develop on other products of this same type design. For this reason, we are proposing AD action.

What would this proposed AD require? This proposed AD would require you to incorporate the actions in the previously-referenced service bulletins.

How does the revision to 14 CFR part 39 affect this proposed AD? On July 10, 2002, we published a new version of 14 CFR part 39 (67 FR 47997, July 22, 2002), which governs FAA's AD system. This regulation now includes material that relates to altered products, special flight permits, and alternative methods of compliance. This material previously was included in each individual AD. Since this material is included in 14 CFR part 39, we will not include it in future AD actions.

Costs of Compliance

How many airplanes would this proposed AD impact? We estimate that this proposed AD affects 7,125 airplanes in the U.S. registry.

What would be the cost impact of this proposed AD on owners/operators of the affected airplanes? We estimate the following costs to do the proposed inspection and replacement:

For Models 401, 401A, 401B, 402, 402A, 402B, 402C, 404, 411, 411A, 414, 414A, 421, 421A, 421B, 421C airplanes:

Labor cost | Parts cost | Total cost per airplane | Total cost on U.S. operators
4 work hours × $65 an hour = $260 | $119 each | $498 (if 2 switches are required) | $498 × 6,527 = $3,250,446

For Models 425 and 441 airplanes:

Labor cost | Parts cost | Total cost per airplane | Total cost on U.S. operators
8 work hours × $65 an hour = $520 | $119 each | $758 (if 2 switches are required) | $758 × 598 = $453,284

Authority for This Rulemaking

What authority does FAA have for issuing this rulemaking action? Title 49 of the United States Code specifies the FAA's authority to issue rules on aviation safety. Subtitle I, section 106 describes the authority of the FAA Administrator. Subtitle VII, Aviation Programs, describes in more detail the scope of the agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this AD.

Regulatory Findings

Would this proposed AD impact various entities? We have determined that this proposed AD would not have federalism implications under Executive Order 13132. This proposed AD would not have a substantial direct effect on the States, on the relationship between the national Government and the States, or on the distribution of power and responsibilities among the various levels of government.

Would this proposed AD involve a significant rule or regulatory action? For the reasons discussed above, I certify that this proposed AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a summary of the costs to comply with this proposed AD (and other information as included in the Regulatory Evaluation) and placed it in the AD Docket. You may get a copy of this summary by sending a request to us at the address listed under ADDRESSES. Include “AD Docket FAA-2005-21173; Directorate Identifier 2005-CE-22-AD” in your request.

List of Subjects in 14 CFR Part 39

Air transportation, Aircraft, Aviation safety, Safety.

The Proposed Amendment

Accordingly, under the authority delegated to me by the Administrator, the Federal Aviation Administration proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

The Cessna Aircraft Company: Docket No. FAA-2005-21173; Directorate Identifier 2005-CE-22-AD.

When Is the Last Date I Can Submit Comments on This Proposed AD?

(a) We must receive comments on this proposed airworthiness directive (AD) by August 9, 2005.

What Other ADs Are Affected by This Action?

(b) None.

What Airplanes Are Affected by This AD?

(c) This AD affects the following airplane models and serial numbers that are:

(i) Equipped with an avionics bus circuit breaker switch, part number (P/N) CM3589-50, 593-250-101, 593-250-102, W31-X2M5A-50, or W31-X1000-50; and

(ii) Certificated in any category:

Model | Serial Nos.
401 | 655 and 401-0001 through 401-0322.
401A | 655 and 401A0001 through 401A0132.
401B | 401B0001 through 401B0221.
402 | 402-0001 through 402-0322.
402A | 402A0001 through 402A0129.
402B | 402B0001 through 402B0122, 402B0201 through 402B0249, 402B0301 through 402B0455, 402B0501 through 402B0640, 402B0801 through 402B0935, 402B1001 through 402B1100, 402B1201 through 402B1250, and 402B1301 through 402B1384.
402C | 689, 402C0001 through 402C0125, 402C0201 through 402C0355, 402C0401 through 402C0528, 402C0601 through 402C0653, 402C0801 through 402C0807, and 402C0808 through 402C1020.
404 | 682, 404-0001 through 404-0136, 404-0201 through 404-0246, 404-0401 through 404-0460, 404-0601 through 404-0695, and 404-0801 through 404-0859.
411 | 642 and 411-0001 through 411-0250.
411A | 411-0251 through 411-0300.
414 | 667, 414-0001 through 414-0099, 414-0151 through 414-0175, 414-0251 through 414-0280, 414-0351 through 414-0437, 414-0451 through 414-0550, 414-0601 through 414-0655, 414-0801 through 414-0855, and 414-0901 through 414-0965.
414A | 414A0001 through 414A0121, 414A0201 through 414A0340, 414A0401 through 414A0535, 414A0601 through 414A0680, 414A0801 through 414A0858, and 414A1001 through 414A1212.
421 | 693 and 421-0001 through 421-0200.
421A | 421A0001 through 421A0158.
421B | 421B0001 through 421B0056, 421B0101 through 421B0147, 421B0201 through 421B0275, 421B0301 through 421B0486, 421B0501 through 421B0665, and 421B0801 through 421B0970.
421C | 421C0001 through 421C0171, 421C0201 through 421C0350, 421C0401 through 421C0525, 421C0601 through 421C0715, 421C0801 through 421C0910, 421C1001 through 421C1115, 421C1201 through 421C1257, 421C1401 through 421C1413, and 421C1801 through 421C1807.
425 | 425-0001 through 425-0236.
441 | 698 and 441-0001 through 441-0362.

What Is the Unsafe Condition Presented in This AD?

(d) This AD is the result from reports of smoke and a burning smell in the cockpit. The actions specified in this AD are intended to prevent failure of the avionics bus circuit breaker switch, which could result in smoke and a burning smell in the cockpit. This failure could lead to reduced ability to control the airplane.

What Must I Do To Address This Problem?

(e) To address this problem, you must do the following:

Actions | Compliance | Procedures
(1) Inspect the avionics bus circuit breaker swtich to determine the part number (P/N) and date code (i) If the P/N) is CM3589-50, 593-250-101, 593-250-102, W31-X2M5A-50, or W31-X1000-50; and (ii) The date code is 0434 or later; then (iii) No further action is required. | Within the next 200 hours time-in-service (TIS), the next 12 months, or at the next scheduled inspection, after the effective date of this AD, whichever occurs first | For Models 425 and 441 airplanes, follow the procedures in Cessna Conquest Service Bulletin CQB05-2, dated February 21, 2005, and the applicable maintenance manual. For all other affected airplane models, follow the procedures in Cessna Multi-engine Service Bulletin MEB05-1, dated February 21, 2005, and the applicable maintenance manual.
(2) If the P/N is CM3589-50, 593-250-101, 593-250-102, W31-X2M5A-50, or W31-X1000-50 and there is no date code, replace the avionics bus circuit breaker switch with a P/N CM3589-50 that has a date code of 0434 or later | Before further flight after the inspection required in paragraph (e)(1) of this AD | For Models 425 and 441 airplanes, follow the procedures in Cessna Conquest Service Bulletin CQB05-2, dated February 21, 2005, and the applicable maintenance manual. For all other affected airplane models, follow the procedures in Cessna Multi-engine Service Bulletin MEB05-1, dated February 21, 2005 and the applicable maintenance manual.
(3) If the P/N is CM3589-50, 593-250-101, 593-250-101, W31-X2M5A-50, or W31-X1000-50 and the date code is earlier than 0434, the part has a safe life limit of 1,000 hours TIS and must be replaced within the 1,000-hour time limit with a P/N CM3589-50 that has a date code of 0434 or later | Within the 1,000-hour TIS safe life limit | For Models 425 and 441 airplanes, follow the procedures in Cessna Conquest Service Bulletin CQB05-2, dated February 21, 2005, and the applicable maintenance manual. For all other affected airplane models, follow the procedures in Cessna Multi-engine Service Bulletin MEB05-1, dated February 21, 2005, and the applicable maintenance manual.
(4) Do not install a P/N CM3589-50, 593-250-101, 593-250-102, W31-X2M5A-50, or W31-X1000-50 that does not have a date code or has a date code earlier than 0434 | As of the effective date of this AD | Not applicable.

May I Request an Alternative Method of Compliance?

(f) You may request a different method of compliance or a different compliance time for this AD by following the procedures in 14 CFR 39.19. Unless FAA authorizes otherwise, send your request to your principal inspector. The principal inspector may add comments and will send your request to the Manager, Wichita Aircraft Certification Office (ACO), FAA. For information on any already approved alternative methods of compliance, contact Gerald Pilj, Aerospace Engineer, FAA Wichita ACO, 1801 Airport Road, Mid-Continent Airport, Wichita, Kansas 67209; telephone: (316) 946-4151; facsimile: (316) 946-4107.

May I Get Copies of the Documents Referenced in This AD?

(g) To get copies of the documents referenced in this AD, contact The Cessna Aircraft Company, Citation Marketing Division, Product Support P.O. Box 7706, Wichita, Kansas 67277; telephone: (316) 517-5800; facsimile: (316) 942-9006. To view the AD docket, go to the Docket Management Facility; U.S. Department of Transportation, 400 Seventh Street, SW., Nassif Building, Room PL-401, Washington, DC, or on the Internet at http://dms.dot.gov. The docket number is Docket No. FAA-2005-21173; Directorate Identifier 2005-CE-22-AD.

Issued in Kansas City, Missouri, on June 3, 2005.
Kim Smith,
Acting Manager, Small Airplane Directorate, Aircraft Certification Service.

[FR Doc. 05-11454 Filed 6-8-05; 8:45 am]

BILLING CODE 4910-13-P